DEPARTMENT OF THE INTERIOR

Bureau of Land Management

[ID-070-1020-PG]

Notice of Meeting

AGENCY: Bureau of Land Management, Interior.

ACTION: Upper Snake River District Resource Advisory Council Meeting: Location and Times.

SUMMARY: The next Upper Snake River District Resource Advisory Council (RAC) Meeting will be held on February 27, 2002, beginning at 1 p.m., and February 28, 2002, beginning at 8 a.m. The meeting will be held at the Best Western Burley Inn, 800 N Overland Avenue in Burley, Idaho.

SUPPLEMENTARY INFORMATION: The RAC meets in accordance with the Federal Land Policy and Management Act and the Federal Advisory Committee Act of 1972 (FACA),5 U.S.C. The Upper Snake River District RAC will discuss scoping topics for the upcoming Fire Management Direction Plan Amendments (FMDPA). The FMDPA will amend 12 land use plans in the district for hazardous fuels management. The RAC will also discuss the results of scoping for the Craters of the Moon National Monument Expansion General/Resource Management Plans. All meetings are open to the public. Each formal council meeting has time allocated for hearing public comments, and the public may present written or oral comments. Individuals who plan to attend and need further information about the meetings, or need special assistance such as sign language interpretation or other reasonable accommodations, should contact the address below.

FOR FURTHER INFORMATION: David Howell at the Upper Snake River District Office, 1405 Hollipark Dr., Idaho Falls, ID 83401, or telephone (208) 524-7559.

Dated: December 6, 2001.
James E. May,
District Manager.

[FR Doc. 01-32131 Filed 12-31-01; 8:45 am]

BILLING CODE 4310-GG-P